ENVIRONMENTAL PROTECTION AGENCY

40 CFR Part 52

[EPA-R04-OAR-2010-0153; FRL-9708-2]

Approval and Promulgation of Implementation Plans and Designations of Areas for Air Quality Planning Purposes; Tennessee: Knoxville; Determination of Attaining Data for the 1997 Annual and 2006 24-Hour Fine Particulate Matter Standards

AGENCY: Environmental Protection Agency (EPA).

ACTION: Final rule.

SUMMARY: EPA is making two determinations, one regarding the Knoxville, Tennessee, 1997 annual fine particulate (PM2.5) nonattainment area and one regarding the Knoxville-Sevierville-La Follette, Tennessee, 2006 24-hour PM2.5 nonattainment area (both areas have the same geographic boundary and will hereafter be collectively referred to as the “Knoxville Area” or “Area”). First, EPA is determining that the Area has attained the 1997 annual PM2.5 National Ambient Air Quality Standards (NAAQS or “standard”). Second, EPA is determining that the Area has attained the 2006 24-hour PM2.5 NAAQS. These determinations of attaining data are based upon quality-assured and certified ambient air monitoring data for the 2009-2011 period, showing that the Area has monitored attainment of the 1997 annual PM2.5 NAAQS and 2006 24-hour PM2.5 NAAQS. The requirements for the Area to submit an attainment demonstration and associated reasonably available control measures (RACM), reasonable further progress (RFP) plans, contingency measures, and other planning State Implementation Plan (SIP) revisions related to attainment of the standards shall be suspended so long as the Area continues to attain the respective PM2.5 NAAQS.

DATES: Effective Date: This final rule is effective on September 4, 2012.

ADDRESSES: EPA has established a docket for this action under Docket ID Number EPA-R04-OAR-2010-0153. All documents in the docket are listed in the http://www.regulations.gov Web site. Although listed in the electronic docket, some information is not publicly available, i.e., confidential business information or other information whose disclosure is restricted by statute. Certain other material, such as copyrighted material, is not placed on the Internet and will be publicly available only in hard copy form. Publicly available docket materials are available either electronically through http://www.regulations.gov or in hard copy for public inspection during normal business hours at the Regulatory Development Section, Air Planning Branch, Air, Pesticides and Toxics Management Division, U.S. Environmental Protection Agency, Region 4, 61 Forsyth Street SW., Atlanta, Georgia 30303-8960.

FOR FURTHER INFORMATION CONTACT: Sara Waterson, Regulatory Development Section, Air Planning Branch, Air, Pesticides and Toxics Management Division, U.S. Environmental Protection Agency, Region 4, 61 Forsyth Street SW., Atlanta, Georgia 30303-8960. Ms. Waterson may be reached by phone at (404) 562-9061 or via electronic mail at waterson.sara@epa.gov.

SUPPLEMENTARY INFORMATION:

I. What action is EPA taking?

II. What is the effect of this action?

III. What is EPA's final action?

IV. Statutory and Executive Order Reviews

I. What actions is EPA taking?

EPA is determining that the Knoxville Area (comprised of Anderson, Blount, Knox, and Loudon Counties in their entireties and a portion of Roane County) has monitored attaining data for the 1997 annual and 2006 24-hour PM2.5 NAAQS. These determinations are based upon quality-assured, quality-controlled and certified ambient air monitoring data that shows the Area has monitored attainment of the 1997 annual and 2006 24-hour PM2.5 NAAQS based on the 2009-2011 data.

Other specific requirements of the determinations and the rationale for EPA's action are explained in the notice of proposed rulemaking (NPR) published on June 6, 2012 (77 FR 33360), and will not be restated here. The comment period closed on July 6, 2012. No comments, adverse or otherwise, were received in response to the NPR.

II. What are the effects of these actions?

The determinations of attaining data, in accordance with 40 CFR 51.1004(c), suspends the requirements for this Area to submit attainment demonstrations, associated RACM, RFP plans, contingency measures, and any other planning SIPs related to attainment of either the 1997 annual or the 2006 24-hour PM2.5 NAAQS for so long as the Area continues to attain the applicable PM2.5 NAAQS. Finalizing these actions does not constitute a redesignation of the Knoxville Area to attainment for the 1997 annual or 2006 24-hour PM2.5 NAAQS under section 107(d)(3) of the Clean Air Act (CAA). Further, finalizing these actions does not involve approving maintenance plans for the Area as required under section 175A of the CAA, nor does it involve a determination that the Area has met all requirements for a redesignation.

III. What are EPA's final actions?

EPA is determining that the Knoxville Area has data demonstrating that it has attained the 1997 annual and 2006 24-hour PM2.5 NAAQS. These determinations are based upon quality-assured, quality-controlled, and certified ambient air monitoring data showing that this Area has monitored attainment of the 1997 annual and 2006 24-hour PM2.5 NAAQS during the period of 2009-2011. This final action, in accordance with 40 CFR 51.1004(c), will suspend the requirements for this Area to submit attainment demonstrations, associated RACM, RFP plans, contingency measures, and any other planning SIPs related to attainment of either the 1997 annual or the 2006 24-hour PM2.5 NAAQS for so long as the Area continues to attain the applicable PM2.5 NAAQS. These actions are being taken pursuant to section 179(c)(1) of the CAA and are consistent with the CAA and its implementing regulations.

IV. Statutory and Executive Order Reviews

Under the CAA, the Administrator is required to approve a SIP submission or state request that complies with the provisions of the CAA and applicable federal regulations. 42 U.S.C. 7410(k); 40 CFR 52.02(a). Thus, in reviewing SIP submissions or state request, EPA's role is to approve state choices, provided that they meet the criteria of the CAA. Accordingly, these actions merely approve state law as meeting federal requirements and does not impose additional requirements beyond those imposed by state law. For that reason, these actions:

• Are not a “significant regulatory actions” subject to review by the Office of Management and Budget under Executive Order 12866 (58 FR 51735, October 4, 1993);

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not an economically significant regulatory action based on health or safety risks subject to Executive Order 13045 (62 FR 19885, April 23, 1997);

• Are not a significant regulatory actions subject to Executive Order 13211 (66 FR 28355, May 22, 2001);

• Are not subject to requirements of Section 12(d) of the National Technology Transfer and Advancement Act of 1995 (15 U.S.C. 272 note) because application of those requirements would be inconsistent with the CAA; and

• Do not provide EPA with the discretionary authority to address, as appropriate, disproportionate human health or environmental effects, using practicable and legally permissible methods, under Executive Order 12898 (59 FR 7629, February 16, 1994).

In addition, these actions do not have tribal implications as specified by Executive Order 13175 (65 FR 67249, November 9, 2000), because the impacted area is not in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by October 1, 2012. Filing a petition for reconsideration by the Administrator of these final rules does not affect the finality of these actions for the purposes of judicial review nor does it extend the time within which a petition for judicial review may be filed, and shall not postpone the effectiveness of such rule or action. These actions, pertaining to the determination of attaining data for the 1997 annual and 2006 24-hour fine particulate matter standard for the Knoxville Area, may not be challenged later in proceedings to enforce its requirements. (See section 307(b)(2).)

List of Subjects in 40 CFR Part 52

Environmental protection, Air pollution control, Incorporation by reference, Particulate matter, Reporting and recordkeeping requirements.

Authority: 42 U.S.C. 7401 et seq.

Dated: July 20, 2012.
A. Stanley Meiburg,
Acting Regional Administrator, Region 4.

40 CFR part 52 is amended as follows:

PART 52—[AMENDED]

1. The authority citation for part 52 continues to read as follows:

Authority: 42 U.S.C. 7401 et seq.

Subpart RR—Tennessee

2. Section 52.2231 is amended by adding paragraphs (d) and (e) to read as follows:

§ 52.2231 Control strategy: Sulfur oxides and particulate matter.

* * * * *

(d) Determination of attaining data. EPA has determined the Knoxville, Tennessee, nonattainment area has attaining data for the 1997 annual PM2.5 NAAQS. This determination, in accordance with 40 CFR 51.1004(c), suspends the requirements for this area to submit an attainment demonstration, associated reasonably available control measures, a reasonable further progress plan, contingency measures, and other planning SIPs related to attainment of the standard for as long as this area continues to meet the 1997 annual PM2.5 NAAQS.

(e) Determination of attaining data. EPA has determined Knoxville-Sevierville-La Follette, Tennessee, nonattainment area has attaining data for the 2006 24-hour PM2.5 NAAQS. This determination, in accordance with 40 CFR 51.1004(c), suspends the requirements for this area to submit an attainment demonstration, associated reasonably available control measures, a reasonable further progress plan, contingency measures, and other planning SIPs related to attainment of the standard for as long as this area continues to meet the 2006 24-hour PM2.5 NAAQS.

[FR Doc. 2012-18663 Filed 8-1-12; 8:45 am]

BILLING CODE 6560-50-P